ENVIRONMENTAL PROTECTION AGENCY

[FRL-10020-14-OMS]

Privacy Act of 1974; System of Records

AGENCY: Office of Land and Emergency Management (OLEM), Environmental Protection Agency (EPA).

ACTION: Notice of a modified system of records.

SUMMARY: The U.S. Environmental Protection Agency's (EPA), Office of Land and Emergency Management (OLEM) is giving notice that it proposes to modify a system of records pursuant to the provisions of the Privacy Act of 1974. Environmental Assessments of Residential Properties (EARP) is being modified to clarify the nature of the information, and the ways in which that information may be used and shared with parties who are part of the evaluation and coordination process. This system of records contains information of individuals that is collected in the course of response and environmental assessment actions, including actions taken under a variety of EPA authorities. The information maintained under this System of Records Notice (SORN) is needed to support EPA's decision-making process on what actions may be necessary to address potential environmental impacts at residential properties, including necessary investigation and cleanup activities. This information is collected to ensure an appropriate and cohesive response to situations that may require EPA response activities, and to protect the health and welfare of residents who may be affected by conditions that present a potential environmental or public health threat. The information is maintained as needed for consideration and coordination of environmental response activities. This information may include individuals' contact information, information related to their address or place of residence, correspondence, and related environmental and public health information collected in the course of investigation, sampling, and cleanup work, as described in further detail below. All exemptions and provisions included in the previously published SORN for EARP will transfer to the modified SORN for EARP.

DATES: Persons wishing to comment on this system of records notice must do so by June 4, 2021. New routine uses for this modified system of records will be effective June 4, 2021.

ADDRESSES: Submit your comments, identified by Docket ID No. EPA-HQ-OLEM-2021-0038, by one of the following methods:

Federal eRulemaking Portal: www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OLEM-2021-0038. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington. DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Joseph Schaefer, Office of Land and Emergency Management (OLEM), Office of Superfund Remediation and Technology Information (OSRTI), Mail Code 205A-ERT, Raritan Depot, 2890 Woodbridge Avenue, Edison, NJ 08837; telephone number (732) 906-6920; Schaefer.Joe@epa.gov.

SUPPLEMENTARY INFORMATION: EPA created a Privacy Act system of records to allow the agency to maintain records that are necessary to conduct environmental assessments at residential properties in order to respond to emergency situations and during environmental assessment activities conducted by EPA under many different programs including Superfund (42 U.S.C. 9601 et seq.), the Resource Conservation and Recovery Act (42 U.S.C. 6901 et seq.), and the Safe Drinking Water Act (42 U.S.C. 300f et seq.). This system of records promotes transparency, efficiency, and improved environmental and health outcomes by encompassing all records associated with EPA residential assessment and response work, including the database repositories, field documentation, and analytical reports.

The original notice highlighted that EPA is often required to support or work closely with state and local agencies or other federal agencies evaluating the health and welfare of affected communities. This cooperation and coordination also extends to tribes and tribal agencies.

The original notice included a list of the types of information commonly gathered in environmental assessments and responses, including: Names of residents; address information; phone number or other contact information; test results from environmental sampling; information about the building structure, such as the age of the structure, information about the service lines, plumbing and pipe information, and building materials in the structure; information about the length of residence or ownership of the structure; and geographic information system (GIS) coordinates. This modified notice provides further examples of typical types of information that may be gathered: Age; medical and health information; property ownership and property management information; information about physical dimensions of the property and structures present on the property; information about wells on the property; information about how the property is used; information about sampling locations; and information about prior environmental issues at the property, including prior test results and actions taken. Other site-specific data elements may also be collected if needed for the environmental assessment or response activity.

As described in more detail in the original notice, information and data collected in environmental assessments and responses will generally be stored in an agency-approved electronic database, which will be managed by EPA system administrators. Other associated records may also be stored in other agency-approved electronic or paper formats, such as Microsoft Excel spreadsheets, Microsoft Word documents or tables, or in file folders in secure locations. During the course of the assessment and response, records may also be temporarily stored off site in secure facilities such as incident command posts or EPA field offices which are maintained and secured by EPA staff.

The original notice identified the EPA staff and contractors who might have access to the information in the system of records. The notice also stated that in appropriate circumstances, limited access to the database systems may be provided to state and local public health authorities in conformity with federal, state, and local laws when necessary to protect the environment or public health or safety. To clarify and emphasize the value of inter-governmental coordination and communication, the original notice is now modified to allow for disclosure to any appropriate federal, state, local, and tribal authorities when necessary to protect the environment or public health or safety, including carrying out an investigation or response. Information may also be shared with state agencies and with the public as part of their participation in the Superfund evaluation and decision-making process. This may include public disclosure of addresses where EPA determines cleanup actions are required. In cases of emergency, EPA may also need to share information with members of the public to assure protection of the environment, and public health and safety.

SYSTEM NAME AND NUMBER:

Environmental Assessments of Residential Properties (EARP), EPA-74.

SECURITY CLASSIFICATION:

Unclassified.

SYSTEM LOCATION:

The system will be managed by the EPA's Office of Emergency Response, OLEM, 1200 Pennsylvania Ave. NW, Mail Code 5103 T, Washington, DC 20460. Information maintained pursuant to this notice may be located at EPA Headquarters Offices or at EPA Regional Offices, or at field offices established as part of the residential assessment field work, depending upon the location where the environmental assessment is conducted or where computer resources are located. Databases may be hosted at the EPA's National Computer Center located at 109 T.W. Alexandra Drive, Durham, NC 27709, or in OLEM's emergency response cloud hosting environment.

SYSTEM MANAGER(S):

Joseph Schaefer, Office of Land and Emergency Management (OLEM), Office of Superfund Remediation and Technology Information (OSRTI), Mail Code 205A-ERT, Raritan Depot, 2890 Woodbridge Avenue, Edison, NJ 08837; telephone number (732) 906-6920; Schaefer.Joe@epa.gov.

AUTHORITY FOR MAINTENANCE OF THE SYSTEM:

Resource Conservation and Recovery Act (RCRA), 42 U.S.C. 6981; Comprehensive Environmental Response, Compensation and Liability Act (CERCLA), 42 U.S.C. 9604, 9660; Clean Air Act (CAA), 42 U.S.C. 7403; Safe Drinking Water Act (SDWA), 42 U.S.C. 300i; 300j-1; Federal Water Pollution Control Act, (FWPCA) 33 U.S.C. 1254, 1318, 1321; Toxic Substances Control Act (TSCA), 15 U.S.C. 2609; Federal Insecticide, Fungicide, and Rodenticide Act, (FIFRA) 7 U.S.C. 136r.

PURPOSE(S) OF THE SYSTEM:

The EPA has created a Privacy Act system of records to allow EPA to maintain records that are necessary to conduct environmental assessments at residential properties in order to respond to emergency situations and during environmental assessment activities conducted by EPA under many different programs including Superfund, RCRA, and the SDWA. This system of records promotes transparency, efficiency, and improved environmental and health outcomes by encompassing all of the records associated with EPA residential assessment and response work, including the database repositories, field documentation and analytical reports. Over the course of these assessments EPA is often required to support or work closely with state and local agencies or other federal agencies to evaluate the health and welfare of affected communities. EPA's environmental assessment activities at residential properties include: Obtaining and tracking legal access to the properties; gathering environmental data through sampling activities, such as sampling air, water, soil, or other environmental media at sites; collecting structural information such as the age of the structure, information about the service lines, plumbing and pipe information, and building materials in the structure, information about the length of residence or ownership of the structure, and GIS coordinates; and collecting residential contact information such as name, address, and phone number to allow response teams to correspond with individuals affected by environmental contamination.

CATEGORIES OF INDIVIDUALS COVERED BY SYSTEM:

Members of the public such as residents, property owners, property managers, and other individuals who may be associated with a property whose information needs to be collected as part of EPA's environmental assessment and response activities. In addition, EPA staff, contractors, grantees, or any other individuals engaged in response activities (including state, local, and tribal employees) may have their information in the system such as name, office address, and contact information to facilitate assessment and response activities.

CATEGORIES OF RECORDS IN THE SYSTEM:

The types of data collected in environmental assessments and responses include names of residents; names of property owners; tenant information; names of property managers; address information; phone number or other contact information; test results from environmental sampling; medical and health information; information about residential structures such as the age of the structure, information about the service lines, plumbing and pipe information, and building materials in the structure; information about the length of residence or ownership of the structure; GIS coordinates; age; property ownership and management information; information about physical dimensions of the property and structures present on the property; information about wells on the property; information about uses of the property; information about sampling locations; and information about prior environmental issues at the property, including prior test results and actions taken. Other site-specific data elements may also be collected if needed for the environmental assessment or emergency response activity.

RECORD SOURCE CATEGORIES:

Records within this system of records are obtained by EPA employees, contractors, or grantees collecting environmental assessment data and sample information at residential sites, or from state or local governments who have collected environmental assessment information as part of their response authorities. Environmental assessment data is received from interviews with residents, property owners, property managers, and other individuals who may be associated with a property, local public records such as property tax data, from inspections of residential properties, from residential property records or other public records, and from other on-site sources such as EPA or contracted laboratories and EPA or contracted GIS systems.

ROUTINE USES OF RECORDS MAINTAINED IN THE SYSTEM, INCLUDING CATEGORIES OF USERS AND PURPOSES OF SUCH USES:

The routine uses below are both related to and compatible with the original purpose for which the information was collected. The following general routine uses apply to this system (73 FR 2245):

A. Disclosure for Law Enforcement Purposes: Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information: Information may be disclosed to any source from which additional information is requested (to the extent necessary to identify the individual, inform the source of the purpose of the request, and to identify the type of information requested,) when necessary to obtain information relevant to an agency decision concerning retention of an employee or other personnel action (other than hiring,) retention of a security clearance, the letting of a contract, or the issuance or retention of a grant, or other benefit.

D. Disclosure to Office of Management and Budget: Information may be disclosed to the Office of Management and Budget at any stage in the legislative coordination and clearance process in connection with private relief legislation as set forth in OMB Circular No. A-19.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components,

Is a party to litigation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

K. Disclosure in Connection With Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

The two routine uses below (L and M) are required by OMB Memorandum M-17-12.

L. Disclosure to Persons or Entities in Response to an Actual or Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to Assist Another Agency in Its Efforts to Respond to a Breach of Personally Identifiable Information: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained electronically on computer storage devices such as computer tapes and disks. The computer storage devices are located at EPA, Office of Emergency Response, OLEM. Backup will be maintained at a disaster recovery site. Computer records are maintained in a secure password protected environment. Access to computer records is limited to those who have a need to know. Permission level assignments will allow users access only to those functions for which they are authorized. All records are maintained in secure, access-controlled areas or buildings.

POLICIES AND PRACTICES FOR RETRIEVAL OF RECORDS:

Information may be retrieved by any collected data element, such as a resident's name or address, or information may be retrieved by GIS coordinates or by identifying numbers assigned to a person, sampling location, or residence.

POLICIES AND PRACTICES FOR RETENTION AND DISPOSAL OF RECORDS:

Records maintained in this system are subject to record schedule 1036, which is still being finalized.

ADMINISTRATIVE, TECHNICAL, AND PHYSICAL SAFEGUARDS:

Security controls used to protect personal sensitive data in Environmental Assessments of Residential Properties are commensurate with those required for an information system rated MODERATE for confidentiality, integrity, and availability, as prescribed in National Institute of Standards and Technology (NIST) Special Publication, 800-53, “Security and Privacy Controls for Federal Information Systems and Organizations,” Revision 5.

Administrative Safeguards: For documents in EPA database systems, those systems have a single point of access via a front-end Portal. All users are required to complete a new user form (signed by their supervisor) and take online security training before they are provided with access. All authorized users of the EARP application are required to take an annual security training identifying the user's role and responsibilities for protecting the Agency's information resources, as well as, consequences for not adhering to the policy. Similarly, those documents maintained on Agency computers prior to placement in EARP are protected by passwords and/or Personal Identity Verification, and all agency users are required to complete a new user form (signed by their supervisor) and take computer security training.

Technical Safeguards: Electronic records are maintained in a secure, password protected electronic system.

Physical Safeguards: Paper files are maintained in locked file cabinets when not in use by EPA emergency response staff. All records are maintained in secure, access-controlled areas or buildings.

RECORD ACCESS PROCEDURES:

Individuals seeking access to information in this system of records about themselves are required to provide adequate identification (e.g., driver's license, military identification card, employee badge or identification card). Additional identity verification procedures may be required, as warranted. Requests must meet the requirements of EPA regulations that implement the Privacy Act of 1974, at 40 CFR part 16.

CONTESTING RECORDS PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, should make a written request to the EPA, Attn: Agency Privacy Officer, MC 2831T, 1200 Pennsylvania Ave. NW, Washington, DC 20460, privacy@epa.gov.

EXEMPTIONS PROMULGATED FOR THE SYSTEM:

None.

HISTORY:

The original SORN for the EARP (EPA-74) was published in the Federal Register on April 21, 2016 (81 FR 23488-23490).

Vaughn Noga,
Senior Agency Official for Privacy.

[FR Doc. 2021-09403 Filed 5-4-21; 8:45 am]

BILLING CODE 6560-50-P